DEPARTMENT OF JUSTICE

Notice of Lodging of Consent Decree Pursuant to the Resource Conservation and Recovery Act

In accordance with the policy of the Department of Justice, notice is hereby given that a proposed consent decree in United States v. Clean Harbors Inc., et al., Civ. No. C1-01-821, was lodged with the United States District Court for the Southern District of Ohio, on November 28, 2001. That action was brought against defendants pursuant to the Resource Conservation and Recovery (RCRA) seeking civil penalties for certain violations of the State RCRA permit for the facility, which is located in Cincinnati, Ohio. The decree requires defendants to pay $400,000.00 in civil penalties, to change certain procedures at the facility concerning hazardous waste analysis and handling, and to apply to the Ohio Environmental Protection Agency for permit modifications associated with these procedures.

The Department of Justice will receive comments relating to the proposed consent decree for a period of 30 days from the date of this publication. Comments should be addressed to the Assistant Attorney General of the Environment and Natural Resources Division, Department of Justice, Washington, DC 20503. All comments should refer to United States v. Clean Harbors, Inc., et al., DJ# 90-7-1-06612.

The proposed consent decree may be examined at the office of the United States Attorney for the Southern District of Ohio, 100 East Fifth Street, 220 Potter Stewart Courthouse, Cincinnati, Ohio 45202; and at the Region V office of the Environmental Protection Agency, 77 West Jackson Boulevard, Chicago, Illinois 60604-3590. A copy of the proposed consent decree may be obtained in person or by mail from the Department of Justice Consent Decree Library, P.O. Box 7611, Washington, DC 20044-7611. In requesting a copy, please enclose a check in the amount of $6.00 (25 cents per page reproduction costs) payable to the Consent Decree Library. When requesting a copy, please refer to United States v. Clean Harbors, Inc., et al., DJ# 90-7-1-06612.

Catherine R. McCabe,
Deputy Chief, Environmental Enforcement Section, Environment and Natural Resources Division.

[FR Doc. 01-31786 Filed 12-26-01; 8:45 am]

BILLING CODE 4410-15-M